DEPARTMENT OF ENERGY

Federal Energy Regulatory Commission

[Docket No. CP05-355-001]

Tennessee Gas Pipeline Company; Notice of Amendment

September 23, 2005.

Take notice that Tennessee Gas Pipeline Company (Tennessee), 1001 Louisiana, Houston, Texas 77002, filed on September 21, 2005, in Docket No. CP05-355-001, an amendment to its pending application filed on May 16, 2005, in Docket No. CP05-355-000, pursuant to sections 7(c) of the Natural Gas Act (NGA), to reflect certain changes to its cost allocation method used to construct its Northeast ConneXion-NY/NJ Project (Project).

This amendment is on file with the Commission and open to public inspection. This filing may be also viewed on the Web at http://www.ferc.gov using the “eLibrary” link. Enter the docket number excluding the last three digits in the docket number field to access the document. For assistance, call (202) 502-8659 or TTY, (202) 208-3676.

By this amendment, Tennessee is modifying the capital cost allocated to the Project from the Compressor Station 325 Project (Docket No. CP05-42-000), so that the allocation method used for the Compressor Station 325 capital costs is consistent with the allocation method used for the Compressor Station 317 capital costs. Tennessee states that the effect of the change is that the Rate Base for the Project will decrease by approximately $3 million, and the Cost of Service will be reduced by $519,000. The proposed monthly recourse rate will decrease from $15.79 to $14.93 per dekatherm.

Any questions regarding this application should be directed to Susan T. Halbach, Senior Counsel, Tennessee Gas Pipeline Company, 1001 Louisiana, Houston, Texas 77002, at (713) 420-5751 or fax (713) 420-1601.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's Web site under the “e-Filing” link.

Comment Date: October 14, 2005.

Magalie R. Salas,
Secretary.

[FR Doc. E5-5359 Filed 9-30-05; 8:45 am]

BILLING CODE 6717-01-P